DEPARTMENT OF COMMERCE

International Trade Administration

North American Free Trade Agreement (NAFTA), Article 1904 Binational Panel Review: Notice of No Further Proceedings

AGENCY: United States Section, NAFTA Secretariat, International Trade Administration, Department of Commerce.

ACTION: Notice of No Further Proceedings in the matter of Certain Fabricated Structural Steel from Mexico; Final Results of Antidumping Duty Administrative Review (Secretariat File Number: USA-MEX-2020-1904-01).

SUMMARY: In Building Systems de Mexico, S.A. de C.V. v. United States, 476 F.Supp.3d 1401 (CIT, 2020) the Court of International Trade held that “it has jurisdiction over this proceeding because the requirements to request a binational panel, and divest this court of jurisdiction, have not been met.” See also, Full Member Subgroup of American Institute of Steel Construction, LLC v. United States, 477 F.Supp.3d 1349 (CIT, 2020). Consistent with these holdings, there are no further proceedings for binational panel review in Certain Fabricated Structural Steel from Mexico AD (USA-MEX-2020-1904-01).

FOR FURTHER INFORMATION CONTACT: Paul E. Morris, United States Secretary, NAFTA Secretariat, 1401 Constitution Avenue NW, Washington, DC 20230, 202-482-5438.

SUPPLEMENTARY INFORMATION: Notice of the Department of Commerce's Final Determination was published in the Federal Register January 30, 2020 (85 FR 5390). In the event a party wished to challenge the Final Determination, pursuant to NAFTA Article 1904(15)(c)(ii), the deadline for the submission of a Notice of Intent to Commence Judicial Review was February 19, 2020 (within 20 days of publication of the Final Determination in the Federal Register), and pursuant to NAFTA Article 1904(4), the deadline for the submission of a Request for Panel Review was March 2, 2020 (within 30 days of publication of the Final Determination in the Federal Register).

On February 19, 2020, the Full Member Subgroup of the American Institute of Steel Construction, LLC (“AISC”) and Building Systems de Mexico, S.A. de C.V. (“BSM”) filed Notices of Intent to Commence Judicial Review at the United States Court of International Trade.

On February 28, 2020, Corey S.A. de C. V. (“Corey”) solely filed a Request for Panel Review.

On November 3, 2020, in Building Systems de Mexico, S.A. de C.V. v. United States, 476 F.Supp.3d 1401, 1409 (CIT, 2020), the Court of International Trade held that “Corey does not have standing, as required in order for it to properly request review of Commerce's final determination before a NAFTA binational panel. . . . NAFTA art. 1904(5) requires a private party to have standing, as determined by the laws of the importing country, in order to request a binational panel.”

The Court of International Trade further held that “it has jurisdiction over this proceeding because the requirements to request a binational panel, and divest this court of jurisdiction, have not been met.” Id. at 1405. See also, Full Member Subgroup of American Institute of Steel Construction, LLC v. United States, 477 F.Supp.3d 1349 (CIT, 2020).

Accordingly, there are no further proceedings for binational panel review in Certain Fabricated Structural Steel from Mexico AD (USA-MEX-2020-1904-01).

For the complete text of the NAFTA Agreement and the NAFTA Rules of Procedure for Article 1904 Binational Panel Reviews, please see https://can-mex-usa-sec.org/secretariat/agreement-accord-acuerdo/index.aspx?lang=eng.

Dated: March 24, 2021.
Paul E. Morris,
U.S. Secretary, NAFTA Secretariat.

[FR Doc. 2021-06464 Filed 3-29-21; 8:45 am]

BILLING CODE 3510-GT-P